DEPARTMENT OF HEALTH AND HUMAN SERVICES

Centers for Disease Control and Prevention

Delegation of Authority

Notice is hereby given that the Director, Centers for Disease Control and Prevention (CDC), has delegated to the Director, Office of Science, Deputy Director for Public Health Science and Surveillance, CDC, and the Director, Office of Technology and Innovation, Office of Science, Deputy Director for Public Health Science and Surveillance, CDC, without the authority to redelegate, all authorities to administer and make decisions regarding the invention and patent program of CDC and the authority to make determinations of rights in inventions and patents in which CDC and the Department of Health and Human Services (HHS) have an interest.

This delegation excludes the authority under 35 U.S.C. 203 (March-in Rights) and the authority to submit reports to Congress.

In addition, this delegation excludes those authorities under the Stevenson-Wydler Technology Act of 1980, as amended by the Federal Technology Transfer Act of 1986 and the National Technology Transfer and Advancement Act of 1995, which are governed by a separate delegation.

The exercise of this authority must be in accordance with applicable laws, regulations, and policies and instructions from the Office of Government Ethics, U.S. Office of Personnel Management, and HHS.

2

This delegation supersedes the Delegation of Authority Concerning Patents and Inventions dated November 14, 2012, from the Director, CDC.

This delegation became effective on October 23, 2019. In addition, the Director, CDC, hereby adopts any actions taken that involve the exercise of the authorities delegated herein prior to the effective date of the delegation.

Dated: November 5, 2019.
Robert K. McGowan,
Chief of Staff, Centers for Disease Control and Prevention.

[FR Doc. 2019-24402 Filed 11-7-19; 8:45 am]

BILLING CODE 4163-18-P